DEPARTMENT OF HOMELAND SECURITY

Coast Guard

33 CFR Part 117

[Docket No. USCG-2009-1029]

Drawbridge Operation Regulation; Grassy Sound Channel, Middle Township, NJ

AGENCY: Coast Guard, DHS.

ACTION: Notice of temporary deviation from regulations.

SUMMARY: The Commander, Fifth Coast Guard District has issued a temporary deviation from the regulations governing the operation of the Grassy Sound Channel Bridge (County Route 619), mile 1.0, at Middle Township, NJ. The deviation restricts the operation of the draw span to facilitate the cleaning and painting of the structure.

DATES: This deviation is effective from 5 a.m. on April 1, 2010 until 5 p.m. on May 15, 2010.

ADDRESSES: Documents mentioned in this preamble as being available in the docket are part of docket USCG-2009-1029 and are available online by going to http://www.regulations.gov, inserting USCG-2009-1029 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District; telephone 757-398-6587, e-mail Terrance.A.Knowles@uscg.mil. If you have questions on viewing the docket, call Renee V. Wright, Program Manager, Docket Operations, telephone 202-366-9826.

SUPPLEMENTARY INFORMATION: The Cape May County Bridge Commission, who owns and operates this bascule drawbridge, has requested a temporary deviation from the current operating regulations set out in 33 CFR 117.721 to facilitate the cleaning and painting of the bridge structure.

The Grassy Sound Channel Bridge (CR-619), at mile 1.0, in Middle Township NJ has a vertical clearance in the closed position to vessels of 15 feet above mean high water (MHW).

Under normal operating conditions, two hours advance notice is required to open the draw of the Grassy Sound Channel Bridge. Under this temporary deviation, the Grassy Sound Channel Bridge will be maintained in the closed-to-navigation position beginning at 5 a.m. on April 1, 2010 until and including 5 p.m. on May 15, 2010.

The drawbridge will open in the event of an emergency. Vessels that can pass under the bridge without a bridge opening may do so at all times. Vessels with mast height greater than 15 feet have an alternate route by transiting approximately two miles away at the nearby County of Cape May Bridge across Great Channel between Stone Harbor and Nummy Island NJ.

The Coast Guard will inform the users of the waterway through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: December 1, 2009.
Waverly W. Gregory, Jr.,
Chief, Bridge Administration Branch, By Direction of the Commander, Fifth Coast Guard District.

[FR Doc. E9-29749 Filed 12-14-09; 8:45 am]

BILLING CODE 9110-04-P